DEPARTMENT OF THE INTERIOR

Fish and Wildlife Service

Notice of Availability of a Technical Agency Draft Recovery Plan for the Endangered Catesbaea melanocarpa for Review and Comment

AGENCY: Fish and Wildlife Service, Interior.

ACTION: Notice of document availability and public comment period.

SUMMARY: We, the Fish and Wildlife Service, announce the availability of the technical agency draft recovery plan for Catesbaea melanocarpa (no common name). Catesbaea melanocarpa is extremely rare and is known from Puerto Rico, St. Croix in the U.S. Virgin Islands (USVI), Barbuda, Antigua, and Guadeloupe. The technical agency draft recovery plan includes interim recovery objectives and criteria to be met in order to downlist Catesbaea melanocarpa to threatened under the Endangered Species Act of 1973, as amended (Act). Given the limited information on the current number of individuals throughout the species range and the limited knowledge on biology, habitat requirements and genetic information, we recognize the need to generate scientific information to better address the threats and limiting factors to this species and to develop specific recovery criteria. Therefore, the interim goal of this recovery plan is to protect and enhance existing populations to the point that downlisting to threatened is warranted. We are soliciting review and comment on this technical agency draft recovery plan from local, State, Territorial, and Federal agencies, and the public.

DATES: In order to be considered, we must receive comments on the technical agency draft recovery plan on or before November 26, 2004.

ADDRESSES: If you wish to review this technical agency draft recovery plan, you may obtain a copy by contacting the Boquerón Field Office, U.S. Fish and Wildlife Service, P.O. Box 491, Boquerón, Puerto Rico 00622 (telephone 787-851-7297), or by visiting our recovery plan Web site at http://endangered.fws.gov/recovery/index.html#plans. If you wish to comment, you may submit your comments by one of the following methods:

1. You may submit written comments and materials to the Field Supervisor, at the above address.

2. You may hand-deliver written comments to our Boquerón Field Office, at the above address, or fax your comments to (787) 851-7440.

Comments and materials received are available for public inspection on request, by appointment, during normal business hours at the above address.

FOR FURTHER INFORMATION CONTACT: Marelisa Rivera at the above address (Telephone 787-851-7297, ext. 231).

SUPPLEMENTARY INFORMATION:

Background

We listed Catesbaea melanocarpa as endangered on March 17, 1999, under the Act (64 FR 13116). Catesbaea melanocarpa is a small spiny shrub of the family Rubiacea. It belongs to a genus which consists of ten or more species of spiny shrubs. It is a branching shrub which may reach approximately 9.8 feet (ft) (3.0 meters (m)) in height. Spines are borne at every internode (space between nodes) and are from 0.39 to 0.78 inches (in) (1.00 to 2.00 centimeters (cm)) long. Leaves are small, from 0.19 to 1.0 in (5.00 to 25.00 millimeters (mm)) long, and 0.07 to 0.58 in (2.00 to 15.00 mm) wide, often opposite. The flowers are white, solitary or paired, and almost lacking a stalk in the axils. The petals are united in the form of a funnel and measure from 0.31 to 0.39 in (8.00 to 10.00 mm) long. The fruit is black, spherical, and 0.19 to 0.23 in (5.00 to 6.00 mm) in diameter. The two-celled fruit contains five to seven seeds in each cell.

Catesbaea melanocarpa is extremely rare. In the U.S. Caribbean, it is known from only one individual in Cabo Rojo, Puerto Rico and approximately 100 individuals in one location in St. Croix, USVI. All known individuals in Puerto Rico and the USVI occur on privately-owned lands. The species is also found on the islands of Barbuda, Antigua, and Guadeloupe; however, little is known of their status on these islands.

Because so few individuals of Catesbaea melanocarpa are known to occur in limited areas, the risk of extinction is extremely high. Both known locations are privately-owned and subject to pressure for development. The location in Cabo Rojo, Puerto Rico, is currently proposed for a high density residential/tourist development. In St. Croix, the population is subject to impacts from intense grazing activities and the land is also subject to pressure for a golf course development. Catastrophic natural events, such as hurricanes, may dramatically affect forest species composition and structure, felling large trees and creating numerous canopy gaps. The population in St. Croix lost individuals following the passing of Hurricane Hugo in 1989. Deforestation for residential and tourist development may also pose imminent threats to the survival of the species. Fire may also be a threat to the known population on the island of St. Croix. Fire is not a natural component of subtropical dry forest in Puerto Rico and Virgin Islands. Species found in this type of forest are not fire adapted.

Restoring an endangered or threatened animal or plant to the point where it is again a secure, self-sustaining member of its ecosystem is a primary goal of the endangered species program. To help guide this recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

Given the limited information on the current number of individuals throughout the species range and the limited knowledge on biology, habitat requirements and genetic information, we recognize the need to generate scientific information to better address the threats and limiting factors to this species and to develop specific recovery criteria. Therefore, the interim goal of this recovery plan is to protect and enhance existing populations to the point that downlisting to threatened is warranted. In order to achieve our interim recovery goal, we believe it will be necessary to protect and enhance habitat known to support existing populations through landowner conservation agreements or easements, enhance existing populations, establish new self-sustaining populations within known range of the species, and conduct research on key biological and genetic issues, including effective propagation techniques, necessary to define recovery criteria. As these interim recovery criteria are met, the status of the species will be reviewed and it will be considered for downlisting to threatened on the Federal List of Endangered and Threatened Wildlife and Plants (50 CFR part 17).

Public Comments Solicited

We solicit written comments on the recovery plan described. We will consider all comments received by the date specified above prior to final approval of the draft recovery plan.

Our practice is to make all comments, including names and home addresses of respondents, available for public review during regular business hours. Individual respondents may request that we withhold their home addresses from the record, which we will honor to the extent allowable by law. In some circumstances, we would withhold also from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority: The authority for this action is section 4(f) of the Endangered Species Act of 1973, 16 U.S.C. 1533(f).

Dated: August 2, 2004.
Sam D. Hamilton,
Regional Director, Southeast Region.

[FR Doc. 04-21565 Filed 9-24-04; 8:45 am]

BILLING CODE 4310-55-P